DEPARTMENT OF LABOR

Employment and Training Administration

[TA-W-57,321]

Reum Corporation, a Division of Reum Group, Waukegan, IL; Dismissal of Application for Reconsideration

Pursuant to 29 CFR 90.18(C) an application for administrative reconsideration was filed with the Director of the Division of Trade Adjustment Assistance for workers at Reum Corporation, a division of Reum Group, Waukegan, Illinois. The application contained no new substantial information which would bear importantly on the Department's determination. Therefore, dismissal of the application was issued.

TA-W-57,321; Reum Corporation, a division of Reum Group, Waukegan, Illinois (August 24, 2005)

Signed at Washington, DC, this 26th day of August, 2005.
Timothy Sullivan
Director, Division of Trade Adjustment Assistance.

[FR Doc. E5-4882 Filed 9-7-05; 8:45 am]

BILLING CODE 4510-30-P